DEPARTMENT OF HEALTH AND HUMAN SERVICES

National Institutes of Health

National Cancer Institute; Amended Notice of Meeting

Notice is hereby given of a change in the meeting of the National Cancer Institute Special Emphasis Panel, October 03, 2013, 08:00 a.m. to October 04, 2013, 05:00 p.m., Hilton Rockville Hotel, 1750 Rockville Pike, Rockville, MD 20852, which was published in the Federal Register on August 16, 2013, 78 FR 50065.

Due to the absence of either an FY 2014 appropriation or Continuing Resolution for the Department of Health and Human Services, the meeting is rescheduled for November 20-21, 2013 from 8:00 a.m. to 2:00 p.m. The meeting location remains the same. The meeting is closed to the public.

Dated: October 29, 2013.
Melanie J. Gray,
Program Analyst, Office of Federal Advisory Committee Policy.

[FR Doc. 2013-26145 Filed 11-1-13; 8:45 am]

BILLING CODE 4140-01-P